ENVIRONMENTAL PROTECTION AGENCY

[EPA-HQ-OPP-2008-0046; FRL-8386-9]

Notice of Receipt of Several Pesticide Petitions Filed for Residues of Pesticide Chemicals in or on Various Commodities

AGENCY: Environmental Protection Agency (EPA).

ACTION: Notice.

SUMMARY: This notice announces the Agency's receipt of several initial filing of pesticide petitions proposing the establishment or modification of regulations for residues of pesticide chemicals in or on various commodities.

DATES: Comments must be received on or before January 2, 2009.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person is listed at the end of each pesticide petition summary and may be contacted by telephone or e-mail. The mailing address for each contact person listed is: Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 180 for residues of pesticide chemicals in or on various food commodities. EPA has determined that the pesticide petitions described in this document contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 8E7394. (EPA-HQ-OPP-2008-0713). BASF Corporation, PO Box 13528, Research Triangle Park, NC 27709, proposes to establish an import tolerance for residues of the fungicide pyraclostrobin, carbamic acid, [2-[[[1-(4-chlorophenyl)-1H-pyrazol-3-yl]oxy]methyl]phenyl]methoxy-, methyl ester and its metabolite methyl-N-[[[1-(4-chlorophenyl) pyrazol-3-yl]oxy]o-tolyl] carbamate (BF 500-3); expressed as parent compound] in or on coffee, bean, green at 0.5 parts per million (ppm). The method of analysis in plants is aqueous organic solvent extraction, column clean up and quantitation by liquid chromatography/mass spectrometry/ mass spectrometry (LC/MS/MS). In animals the method of analysis involves base hydrolysis, organic extraction, column clean up and quantitation by LC/MS/MS or derivatization (methylation) followed by quantitation by gas chromatography/mass spectrometry (GC/MS). Contact: John Bazuin, 703-305-7381, bazuin.john@epa.gov.

2. PP 8E7419. (EPA-HQ-OPP-2008-0730). Interregional Research Project No. 4 (IR-4), 500 College Rd. East, Suite 201 W, Princeton, NJ 08540 proposes to establish a tolerance for the combined residues of the herbicide, endothall, 7-oxabicylo[2,2,1]heptane-2,3-dicarboxylic acid and its monomethyl ester in or on vegetable root, and tuber group 1 at 2 parts per million (ppm); vegetable, leaves of root and tuber, group 2 at 3.5 ppm; vegetable, bulb, group 3-07 at 2 ppm; vegetable, leafy, except brassica, group 4 at 3.5 ppm; vegetable, brassica, leafy, group 5 at 0.1 ppm; turnip, greens at 0.1 ppm; vegetable, legume, group 6 at 3 ppm; vegetable, fruiting, group 8 at 0.05 ppm; okra at 0.05 ppm; vegetable, cucurbit, group 9 at 1.1 ppm; cilanto at 3.5ppm; fruit, citrus, group 10 at 0.05 ppm; fruit, pome, group 11 at 0.05 ppm; fruit, stone, group 12 at 0.25 ppm; berry and small fruit group 13-07 at 0.6 ppm; small fruit vine climing subgroup, except fuzzy kiwifruit, 13-07F at 0.9 ppm; nut, tree, group 14, at 0.05 ppm; pistachio at 0.05 ppm; almond, hulls at 10 ppm; grain, cereal, group 15 at 2.5 ppm; grain, cereal, forage, fodder and hay, group 16, forage at 3.5 ppm; grain, cereal, forage, fodder and hay, group 16, hay at 5 ppm; grain, cereal, forage, fodder and hay, group 16, stover at 11 ppm; grain, cereal, forage, fodder and hay, group 16, straw at 6 ppm; grain, aspirated fractions at 24 ppm; grass, forage, fodder, and hay, group 17, forage at 3 ppm; grass, forage, fodder and hay, group 17, hay at 19 ppm; nongrass animal feed, group 18, forage at 3.5 ppm; nongrass animal feed, group 18, hay at 8 ppm; peppermint, tops at 7 ppm; spearmint, tops at 7 ppm; and rice, grain at 1.7 ppm; and rice, straw at 4.5 ppm. An adequate method for purposes of enforcement of the proposed endothall tolerances is available. The method uses a high performance liquid chromatography/mass spectrometry/mass spectrometry (HPLC/MS/MS) system. Separation is achieved using a reversed phase column. The molecular ions formed in negative ion mode were fragmented by collision with neutral gas. The method is capable of analyzing for residues of endothall on different crop matrices. Contact: Sidney Jackson, (703) 305-7610, jackson.sidney@epa.gov.

3. PP 8E7427. (EPA-HQ-OPP-2008-0731). IR-4, 500 College Rd. East, Suite 201W, Princeton, NJ, 08540, proposes to establish a tolerance for the combined residues of the fungicide cyazofamid, 4-chloro-2-cyano-N,N-dimethyl-5-(4-methylphenyl)-1H-imidazole-1-sulfonamide (CA) and its metabolite CCIM, 4-chloro-5-(4-methylphenyl)-1H-imidazole-2-carbonitrile (CA), in or on fruiting vegetables group 8 and okra at 0.8 ppm; and establish a tolerance with regional registration, as defined in §180.1(n), for grapes - East of the Rocky Mountains at 1.5 ppm. The grape tolerance will change from the current import tolerance to a regional tolerance. Residues of cyazofamid and CCIM were extracted from 20 grams of pepper with acetonitrile. After filtration, the extract was evaporated to near dryness and reconstituted with 2% sodium sulfate. The analytes were removed by partitioning with methylene chloride. After reconstitution in 50:50 acetonitrile: water, quantitation was achieved by LC/MS/MS. The method for grapes and tomatoes was discussed in a previous Federal Register notice on May 7, 2003. Contact: Laura Nollen, (703) 305-7390, nollen.laura@epa.gov.

4. PP 8F7352. (EPA-HQ-OPP-2008-0733). Syngenta Crop Protection, Regulatory Affairs, P.O. Box 18300, Greensboro, NC 27419-8300, proposes to establish a tolerance for residues of the fungicide Acibenzolar S-methyl, in or on vegetable, cucurbit, group 9) at 1.0 ppm. Syngenta Analytical Method AG-671A is a practical and valid method for the determination and confirmation of acibenzolar S-methyl (CGA245704) in raw agricultural commodities (RAC) and processing substrates from the tobacco, leafy (including brassica) and fruiting vegetable crop groups at a LOQ of 0.02 ppm. Based on recoveries of dry bulb onion samples fortified at the lower limit of method validation, the limit of detection (LOD) and limit of quantitation (LOQ) were calculated as 0.013 and 0.040 ppm, respectively. The method involves extraction, solid phase cleanup of samples with analysis by high performance liquid chromatography (HPLC) with ultraviolet (UV) detection or confirmatory liquid chromatography/mass spectrometry (LC/)MS). The validity is demonstrated by the acceptable accuracy and precision obtained on numerous procedural recovery samples (radiovalidation and field trial sample sets), and by the extractability and accountability obtained by the analysis of weathered radioactive substrates using Analytical Method AG-671A. Contact: Tawanda Maignan, (703) 308-8050, maignan.tawanda@epa.gov.

5. PP 8F7385. (EPA-HQ-OPP-2008-0713). BASF Corporation, PO Box 13528, Research Triangle Park, NC 27709, proposes to establish tolerances for residues of the fungicide, pyraclostrobin, carbamic acid, [2-[[[1-(4-chlorophenyl)-1H-pyrazol-3-yl]oxy]methyl]phenyl]methoxy-, methyl ester and its metabolite methyl-N-[[[1-(4-chlorophenyl) pyrazol-3-yl]oxy]o-tolyl] carbamate (BF 500-3); expressed as parent compound in or on Sorghum, forage at 5.0 ppm; Sorghum, grain at 0.5 ppm; and sorghum, stover at 0.8 ppm. The method of analysis in plants is aqueous organic solvent extraction, column clean up and quantitation by LC/MS/MS. In animals the method of analysis involves base hydrolysis, organic extraction, column clean up and quantitation by LC/MS/MS or derivatization (methylation) followed by quantitation by gas chromatography/mass spectrometry (GC/MS). Contact: John Bazuin, (703) 305-7381, bazuin.john@epa.gov.

6. PP 8F7406. (EPA-HQ-OPP-2008-0704). Arysta LifeScience North America, LLC, 15401 Weston Parkway, Suite 150, Cary, NC 27513, proposes to establish a tolerance for residues of the fungicide fluoxastrobin, (1E)-[2-[[6-(2-chlorophenoxy)-5-fluoro-4-pyrimydinyl]oxy]phenyl](5,6-dihydro-1,4,2-dioxazin-3-yl)methanone O-methyloxime, and its Z isomer, (1Z)-[2-[[6-(2-chlorophenoxy)-5-fluoro-4-pyrimydinyl]oxy]phenyl](5,6-dihydro-1,4,2-dioxazin-3-yl)methanone O-methyloxime] in or on berry, low growing, subgroup 13-07G at 1.9 ppm. Adequate analytical methodology using LC/MS/MS detection is available for enforcement purposes. Contact: John Bazuin, (703) 305-7381, bazuin.john@epa.gov.

7. PP 8F7410. (EPA-HQ-OPP-2006-0848). Bayer CropScience, 2 T.W. Alexander Dr., Research Triangle Park, NC 27709, proposes to establish a tolerance for the indirect or inadvertent residues of the fungicide fenamidone (4H-imidazol-4-one,3,5-dihydro-5-methyl-2-(methylthio)-5-phenyl-3-(phenylamino)-,(S)-) and its metabolite RPA 717879 (2,4-imidazolidinedione, 5-methyl-5-phenyl), in or on corn, field, forage at 0.50 ppm; corn, field, grain at 0.02 ppm; corn, stover at 0.35 ppm; corn, sweet, forage at 0.15 ppm; corn, sweet, kernel plus cob with husks removed at 0.20 ppm; soybean, forage at 0.20 ppm; soybean, hay at 0.20 ppm; and soybean, seed at 0.02 ppm. Although residue levels approaching the proposed tolerances are unlikely, independently validated enforcement methods are available for determining residues of fenamidone and relevant metabolites. Residues are quantified by HPLC with tandem mass spectrometric detection. The method LOQ are 0.02 ppm or lower for fenamidone, and its metabolites, RPA 412636, RPA 412708, and RPA 410193 in test raw agricultural commodities and processed fractions. Contact: Rosemary Kearns, (703) 305-5611, kearns.rosemary@epa.gov.

Amendment to Existing Tolerances

1. PP 8E7427. (EPA-HQ-OPP-2008-0731). IR-4, 500 College Rd. East, Suite 201W, Princeton, NJ, 08540, proposes to delete the existing tolerance in 40 CFR 180.601 for the combined residues of the fungicide cyazofamid, 4-chloro-2-cyano-N,N-dimethyl-5-(4-methylphenyl)-1H-imidazole-1-sulfonamide (CA) and its metabolite CCIM, 4-chloro-5-(4-methylphenyl)-1H-imidazole-2-carbonitrile (CA), in or on tomato at 0.2 ppm since the proposed fruiting vegetable crop group tolerance will replace the current tomato tolerance under “New Tolerance” No. 2. In addition, the grape tolerance will change from the existing import tolerance to a regional tolerance under “New Tolerance” No. 2. Contact: Laura Nollen, (703) 305-7390, nollen.laura@epa.gov.

2. PP 8F7390. (EPA-HQ-OPP-2008-0713). BASF Corporation, PO Box 13528, Research Triangle Park, NC 27709, proposes to increase the tolerance in 40 CFR 180.582 for residues of the fungicide pyraclostrobin, carbamic acid, [2-[[[1-(4-chlorophenyl)-1H-pyrazol-3-yl]oxy]methyl]phenyl]methoxy-, methyl ester and its metabolite methyl-N-[[[1-(4-chlorophenyl) pyrazol-3-yl]oxy]o-tolyl] carbamate (BF 500-3); expressed as parent compound] in or on fruit, stone, group 12 from 0.9 to 2.5 ppm. The method of analysis in plants is aqueous organic solvent extraction, column clean up and quantitation by LC/MS/MS. In animals the method of analysis involves base hydrolysis, organic extraction, column clean up and quantitation by LC/MS/MS or derivatization (methylation) followed by quantitation by GC/MS. Contact: John Bazuin, (703) 305-7381, bazuin.john@epa.gov.

New Exemption from Tolerance

PP 8F7401. (EPA-HQ-OPP-2006-0993). Dow AgroSciences LLC, 9330 Zionsville Rd., Indianapolis, IN 46268, proposes to establish an exemption from the requirement of a tolerance for residues of the herbicide florasulam, in or on turfgrass. Adequate enforcement method for the combined residues of florasulam is available to enforce the tolerance expression in or on food. The analytical method uses capillary gas chromatography and mass selective detection (GC-MSD). The LOQ of the method is 0.01 ug/g for grain and 0.05 ug/g for forage, hay and straw. A suitable GC/MSD analytical method is available for measuring florasulam in small grain commodities for enforcing the above tolerances. Contact: Dianne L. Morgan, (703) 305-6217, morgan.dianne@epa.gov.

New Exemption from an Inert Tolerance

1. PP 8E7422. (EPA-HQ-OPP-2008-0725). The Joint Inerts Task Force, Cluster Support Team 24, 1156 15th St., N.W., Suite 400, Washington, DC 20005, proposes to establish an exemption from the requirement of a tolerance in 40 CFR 180.910 and in 40 CFR 180.930 ii for residues of Sodium N-oleoyl-N-methyl taurine (CAS No. 137-20-2) when used as a pesticide inert ingredient in pesticide formulations in or on all raw agricultural commodities. Because this petition is a request for an exemption from the requirement of a tolerance, no analytical method is required. Contact: Karen Samek, (703) 347-8825, samek.karen@epa.gov.

2. PP 8E7382. (EPA-HQ-OPP-2008-0738). The Joint Inerts Task Force (JITF), Cluster Support Team Number 4 (CST 4), EPA Company Number 84940, c/o CropLife America, 1156 15th Street, N.W., Suite 400, Washington, DC 20005, proposes to establish an exemption from the requirement of a tolerance in 40 CFR 180.920 for residues of Alkyl Amine Polyalkoxylates (hereafter referred to as AAP) in or on all raw agricultural commodities when used as a pesticide inert ingredient in pesticide formulations. This tolerance expression includes the following:

Section 180.920: N, N-Bis-[[alpha]-ethyl-[omega]-hydroxypoly(oxy-1,2-ethanediyl)] C8-C18 saturated and unsaturated alkylamines; the poly(oxy-1,2-ethanediyl) content is 2-60 moles. Concentration in formulated pesticide end-use products not to exceed 25% by weight in herbicide products and 10% by weight in all other pesticide products.

TABLE—CAS Registry No. of Alkyl Amine Polyethoxylates AAP (POE)
CAS RN | Chemical Abstract Nomenclature
61790-82-7 | Amines, hydrogenated tallow alkyl, ethoxylated
61791-14-8 | Amines, coco alkyl, ethoxylated
61791-24-0 | Amines, soya alkyl, ethoxylated
61791-26-2 | Amines, tallow alkyl, ethoxylated
68155-39-5 | Amines, C14-18 and C16-18-unsaturated alkyl, ethoxylated
68155-33-9 | Amines, C14-18-alkyl, ethoxylated
68155-40-8 | Amines, C16-18 and C18-unsaturated alkyl, ethoxylated
288259-52-9 | Amines, C16-18-alkyl, ethoxylated
58253-49-9 | Amines, oleyl derivatives, alkyl, ethoxylated
61791-31-9 | Amines, coco derivatives alkyl, ethoxylated
61791-44-4 | Amines, tallow derivatives alkyl, ethoxylated
25307-17-9 | Amines, C18 oleyl derivatives alkyl, ethoxylated
73246-96-5 | Amines, soya derivatives alkyl, ethoxylated
70955-14-5 | Amines, C13-C15-derivatives alkyl, ethoxylated
26635-93-8 | Amines, oleyl (9Z) oleyl derivatives alkyl, ethoxylated
26635-92-7 | Amines, C18 derivatives alkyl, ethoxylated
10213-78-2 | Amines, C18 derivatives alkyl, ethoxylated

Section 180.920: N,N-Bis-[[alpha]-ethyl/methylethyl-[omega]-hydroxypoly(oxy-1,2-ethanediyl/oxy(methyl-1,2-ethanediyl))] C8-C18 saturated and unsaturated alkylamines; the poly(oxy-1,2-ethanediyl/oxy(methyl-1,2-ethanediyl)) content is 2-60 moles. Concentration in formulated pesticide end-use products not to exceed 25% by weight in herbicide products and 10% by weight in all other pesticide products.

Table—CAS Registry No. of Alkyl Amine Polyethoxylate/Polypro- proxylates AAP (POE/POP)
CAS RN | Chemical Abstract Nomenclature
CAS RN | Chemical Abstract Nomenclature
68153-97-9 | Amines, soya alkyl, ethoxylated propoxylated
68213-26-3 | Amines, tallow alkyl, ethoxylated propoxylated
75601-76-2 | Amines, hydrogenated tallow alkyl, ethoxylated propoxylated

Because this petition is a request for an exemption from the requirement of a tolerance, no analytical method is required. Contact: Karen Samek, 703-347-8825, samek.karen@epa.gov.

List of Subjects

Environmental protection, Agricultural commodities, Feed additives, Food additives, Pesticides and pests, Reporting and recordkeeping requirements.

Dated: November 25, 2008.
Lois Rossi,
Director, Registration Division, Office of Pesticide Programs.

[FR Doc. E8-28667 Filed 12-2-08; 8:45 am]

BILLING CODE 6560-50-S